DEPARTMENT OF COMMERCE

National Oceanic and Atmospheric Administration

[RTID 0648-XE170]

New England Fishery Management Council; Public Meeting

AGENCY: National Marine Fisheries Service (NMFS), National Oceanic and Atmospheric Administration (NOAA), Commerce.

ACTION: Notice of public meeting.

SUMMARY: The New England Fishery Management Council (NEFMC) will host the Eighth National Meeting of the Scientific Coordination Subcommittee (SCS8) of the Council Coordination Committee. The meeting theme is “Applying Acceptable Biological Catch (ABC) Control Rules in a Changing Environment.” The objective of SCS8 is to provide actionable guidance on how to best support Councils in the management of fisheries, particularly on the use of ABC control rules, given the changing environment.

DATES: The meetings will be held from Monday, August 26 to Wednesday, August 28, 2024. The times are as follows: August 26, 9 a.m.-5 p.m.; August 27, 8:30 a.m.-5 p.m.; August 28, 9 a.m.-12 p.m.

ADDRESSES:

Meeting address: This meeting will be held at the Seaport Hotel, Boston, MA, One Seaport Lane, Boston, MA 02210.

Webinar Registration information: https://nefmc-org.zoom.us/webinar/register/WN_7nZ9FuUnQUeycD2WcVDnig.

You can listen-only to the meeting online using a computer, tablet, or smart phone, or by phone only. Only the audio portion and presentations displayed on the screen at the SCS8 meeting will be broadcast.

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

The SCS8 objective will be met through a series of keynote and case study presentations, as well as, small-group and plenary discussions on the following topics: Current approaches to defining ABC control rules and challenges in their application; Advances in ecosystem science and assessment to inform ABC control rules in a dynamic environment; Application of social science to achieve management goals under dynamic conditions Adaptation of reference points, control rules, and rebuilding plans to a changing environment. The agenda is subject to change, and the latest version will be posted at: https://www.nefmc.org/calendar/aug-26-28-2024-eighth-national-scs-workshop-2024.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

These meetings are physically accessible to people with disabilities. Requests for sign language interpretation or other auxiliary aids should be directed to Cate O'Keefe, Executive Director, at (978) 465-0492, at least 5 days prior to the meeting date.

Authority: 16 U.S.C. 1801 et seq.

Dated: August 5, 2024.
Rey Israel Marquez,
Acting Deputy Director, Office of Sustainable Fisheries, National Marine Fisheries Service.

[FR Doc. 2024-17633 Filed 8-7-24; 8:45 am]

BILLING CODE 3510-22-P